ENVIRONMENTAL PROTECTION AGENCY

[SFUND-2004-0003; FRL-7837-2]

Agency Information Collection Activities; Submission to OMB for Review and Approval; Comment Request; CAMEO Software Usability Evaluation Survey, EPA ICR Number 2132.01

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before December 13, 2004.

ADDRESSES: Submit your comments, referencing docket ID number SFUND-2004-0003, to (1) EPA online using EDOCKET (our preferred method), by email to superfund.docket@epa.gov, or by mail to: EPA Docket Center, Environmental Protection Agency, Superfund Docket, Mail Code 5305T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Sherry Fielding, Office of Emergency Prevention, Preparedness and Response (OEPPR), Mail Code 5104A, U.S. Environmental Protection Agency, 1200 Pennsylvania Ave., NW., Washington, DC 20460; telephone number: (202) 564-6174; fax number: (202) 564-8211; email address: fielding.sherry@epa.gov.

SUPPLEMENTARY INFORMATION: EPA has submitted the following ICR to OMB for review and approval according to the procedures prescribed in 5 CFR 1320.12. On March 12, 2004 (69 FR 11851), EPA sought comments on this ICR pursuant to 5 CFR 1320.8(d). EPA received no comments.

EPA has established a public docket for this ICR under Docket ID No. SFUND-2004-0003, which is available for public viewing at the Superfund Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Superfund Docket is (202) 566-0276. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: CAMEO Software Usability Evaluation Survey.

Abstract: The Environmental Protection Agency (EPA), Office of Emergency Prevention, Preparedness and Response (OEPPR), is requesting an Information Collection Request (ICR) to conduct a nationwide survey of Computer-aided Management of Emergency Operations (CAMEO) Web site listserv members and users to determine user satisfaction with the CAMEO software and its features. CAMEO is a system of software applications used widely to plan for and respond to chemical emergencies. It is one of the tools developed by EPA to assist front-line chemical emergency planners and responders. Users can employ CAMEO to access, store, and evaluate information critical for developing emergency plans. In addition, CAMEO supports regulatory compliance by helping users meet the chemical inventory reporting requirement of SARA Title III. CAMEO has been in use by local emergency planners, first responders, state and tribal groups, and industry personnel since 1988. During the intervening years, EPA surveyed CAMEO users in 1994 and 1997 to identify needed changes and enhancements. While these previous surveys were the starting point of the current CAMEO survey, survey materials have been modified to capture emerging needs of users, particularly as they relate to the availability of Emergency Planning and Community Right-to-Know (EPCRA) and Risk Management Program Rule data.

The survey will be conducted via the Internet after 600 names are randomly selected from the CAMEO Listserv. EPA will send prior notification to the entire Listserv (6,000-7,000 names) informing users of the survey and the process. EPA will send a message to the 600 selected participants with a link to the Web-based survey; there will be no passwords to access the survey. In completing the survey, EPA will not require participants to provide any identifying information.

The primary goals of this research are to: (i) Evaluate customer satisfaction with CAMEO; (ii) probe current user practices and preferences regarding several important sets of issues, including the effectiveness of selected Agency products and services, required reporting requirements, and new homeland security responsibilities; and (iii) identify emerging user needs. EPA will use the information collected through this survey to judge the success and efficacy of the Agency's chemical emergency technical assistance efforts and improve program implementation.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average one-half hour (0.5 hours) per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Members of the CAMEO Web site listserv.

Estimated Number of Respondents: 200.

Frequency of Response: One-time.

Estimated Total Annual Hour Burden: 100.

Estimated Total Annual Cost: $7,000, includes $0 annual capital/startup or O&M costs, and $7,000 annual labor costs.

Dated: November 2, 2004.
Oscar Morales,
Director, Collection Strategies Division.

[FR Doc. 04-25216 Filed 11-10-04; 8:45 am]

BILLING CODE 6560-50-P